DEPARTMENT OF HEALTH AND HUMAN SERVICES

National Institutes of Health

Prospective Grant of Exclusive Patent License: Development of Integrin αvβ3 Antagonists for Use in Imaging and Therapy

AGENCY: National Institutes of Health, HHS.

ACTION: Notice.

SUMMARY: This is notice, in accordance with 35 U.S.C. 209(c)(1) and 37 CFR part 404.7(a)(1)(i), that the National Cancer Institute (NCI) and the Clinical Center (CC), National Institutes of Health, Department of Health and Human Services, are contemplating the grant of an exclusive license to Advanced Imaging Projects, LLC, a company having a place of business in Boca Raton, FL, to practice the inventions embodied in the following patent applications:

Intellectual Property

U.S. Patent No. 7,300,940, filed 4 August 2004, titled “Integrin α-v β-3 antagonists for use in imaging and therapy” (HHS Ref. No.: E-170-2004/0-US-01);

PCT Application No. PCT/US2005/027868, filed 3 August 2005, now abandoned, titled “Integrin α-v β-3 antagonists for use in imaging and therapy” (HHS Ref. No.: E-170-2004/0-PCT-02);

Switzerland Patent No. 1781622, titled “Integrin α-v β-3 antagonists for use in imaging and therapy” filed 4 March 2007, issued 18 May 2011 (HHS Ref. No.: E-170-2004/0-CH-04);

Germany Patent No. 602005028137.1, titled “Integrin α-v β-3 antagonists for use in imaging and therapy” filed 4 March 2007, issued 18 May 2011 (HHS Ref. No.: E-170-2004/0-DE-05);

France Patent No. 1781622, titled “Integrin α-v β-3 antagonists for use in imaging and therapy” filed 4 March 2007, issued 18 May 2011 (HHS Ref. No.: E-170-2004/0-FR-060); and

Ireland Patent No. 1781622, titled “Integrin α-v β-3 antagonists for use in imaging and therapy” filed 4 March 2007, issued 18 May 2011 (HHS Ref. No.: E-170-2004/0-IE-07).

The patent rights in these inventions have been assigned to the Government of the United States of America. The territory of the prospective exclusive license may be worldwide, and the field of use may be limited to “Conjugate of Alpha-V beta-3 antagonist NIH-CC-013 for theranostic application to diagnose, prevent and treat oncological, infectious, ocular and cardiovascular disorders.”

DATES: Only written comments and/or applications for a license which are received by the NCI Technology Transfer Center on or before September 19, 2016 will be considered.

ADDRESSES: Requests for copies of the patent application(s), inquiries, comments, and other materials relating to the contemplated exclusive license should be directed to: Jaime M. Greene, M.S., Senior Licensing and Patenting Manager, Technology Transfer Center, National Cancer Institute, 9609 Medical Center Drive, Rockville, MD 20850; telephone: 240-276-6633; email: greenejaime@mail.nih.gov.

SUPPLEMENTARY INFORMATION: This technology concerns small molecule compositions that are antagonists for the receptor integrin αvβ3. Integrins are functional molecules for cell adhesion activity that are expressed by the majority of normal and cancer cells. They are trans-membrane heterodimer receptors that include two subunits, α and β chains, that primarily allow cell adhesion to extracellular matrix components such as fibrillar collagen, vitronectin and osteopontin. This technology may be useful for the development of diagnostics and therapeutics for cancers and other conditions involving the integrin αvβ3.

The prospective exclusive license will be royalty bearing and will comply with the terms and conditions of 35 U.S.C. 209 and 37 CFR part 404.7. The prospective exclusive license may be granted unless within fifteen (15) days from the date of this published notice, the NIH receives written evidence and argument that establishes that the grant of the license would not be consistent with the requirements of 35 U.S.C. 209 and 37 CFR part 404.7.

Complete applications for a license in the prospective field of use that are filed in response to this notice will be treated as objections to the grant of the contemplated Exclusive Patent License Agreement. Comments and objections submitted to this notice will not be made available for public inspection and, to the extent permitted by law, will not be released under the Freedom of Information Act, 5 U.S.C. 552.

Dated: August 29, 2016.
Richard U. Rodriguez,
Associate Director, Technology Transfer Center, National Cancer Institute.

[FR Doc. 2016-21113 Filed 9-1-16; 8:45 am]

BILLING CODE 4140-01-P